DEPARTMENT OF THE TREASURY

Internal Revenue Service

26 CFR Part 1

[REG-138707-06]

RIN 1545-BF90

Exclusions From Gross Income of Foreign Corporations; Hearing Cancellation

AGENCY: Internal Revenue Service (IRS), Treasury.

ACTION: Cancellation of notice of public hearing on proposed rulemaking by cross-reference to temporary regulations.

SUMMARY: This document cancels a public hearing on proposed regulations relating to income derived by foreign corporations from the international operation of ships or aircraft.

DATES: The public hearing, originally scheduled for October 24, 2007 at 10 a.m. is cancelled.

FOR FURTHER INFORMATION CONTACT: Kelly Banks of the Publications and Regulations Branch, Legal Processing Division, Associate Chief Counsel (Procedure and Administration) at (202) 622-0392 (not a toll-free number).

SUPPLEMENTARY INFORMATION: A notice of proposed rulemaking by cross-reference to temporary regulations and notice of public hearing (REG-138707-06) that appeared in the Federal Register on Monday, June 25, 2007 (72 FR 34650), announced that a public hearing was scheduled for October 24, 2007, at 10 a.m. in the IRS Auditorium, Internal Revenue Service, 1111 Constitution Avenue, NW., Washington, DC. The subject of the public hearing is under section 883 of the Internal Revenue Code.

The public comment period for these regulations expired on September 24, 2007. The notice of proposed rulemaking by cross-reference to temporary regulations and notice of public hearing instructed those interested in testifying at the public hearing to submit a request to speak and an outline of the topics to be addressed by September 24, 2007. As of September 28, 2007, no one has requested to speak and therefore, the public hearing scheduled for October 24, 2007, is cancelled.

LaNita VanDyke,
Branch Chief, Publications and Regulations Branch, Legal Processing Division, Associate Chief Counsel (Procedure and Administration).

[FR Doc. E7-19871 Filed 10-9-07; 8:45 am]

BILLING CODE 4830-01-P